DEPARTMENT OF HOMELAND SECURITY

Transportation Security Administration

[Docket No. TSA-2011-0008]

Aviation Security Advisory Committee (ASAC) Meeting

AGENCY: Transportation Security Administration, DHS.

ACTION: Committee Management; Notice of Federal Advisory Committee Meeting.

SUMMARY: The Transportation Security Administration (TSA) will hold a meeting of the Aviation Security Advisory Committee (ASAC) on September 18, to discuss the recommendations of its sub-committees. This meeting will be open to the public.

DATES: The Committee will meet on Tuesday, September 18, 2012, from 1:30 p.m. to 4 p.m. This meeting may end early if all business is completed.

Submit comments by September 11, 2012, on the reports to be considered by the committee.

ADDRESSES: The meeting will be held at the Transportation Security Administration Systems Integration Facility, located at 3701 West Post Office Road, Ronald Reagan Washington National Airport (DCA), Arlington, VA 22202.

We invite your comments on the Report on the Actions of the Air Cargo Security Sub-committee and the Report on the Actions of the International Aviation Sub-committee, placed in the public docket. You may submit comments on these reports, identified by the TSA docket number to this action (Docket No. TSA-2011-0008), to the Federal Docket Management System (FDMS), a government-wide, electronic docket management system, using any one of the following methods:

Electronically: You may submit comments through the Federal eRulemaking portal at http://www.regulations.gov. Follow the online instructions for submitting comments.

Mail, In Person, or Fax: Address, hand-deliver, or fax your written comments to the Docket Management Facility, U.S. Department of Transportation, 1200 New Jersey Avenue SE., West Building Ground Floor, Room W12-140, Washington, DC 20590-0001; fax (202) 493-2251. The Department of Transportation (DOT), which maintains and processes TSA's official regulatory dockets, will scan the submission and post it to FDMS.

See SUPPLEMENTARY INFORMATION for format and other information about comment submissions.

FOR FURTHER INFORMATION CONTACT: Dean Walter, ASAC Designated Federal Officer, Transportation Security Administration (TSA-28), 601 12th Street South, Arlington, VA 20598-4028, Dean.Walter@dhs.gov, 571-227-2645.

SUPPLEMENTARY INFORMATION:

Comments Invited

To facilitate public participation, TSA invites interested persons to participate in this action by submitting written comments, data, or views on the issues to be considered by the committee as listed in the “Meeting Summary” section below. We also invite comments relating to the economic, environmental, energy, or federalism impacts that might result from this action. See ADDRESSES above for information on where to submit comments.

With each comment, please identify the docket number at the beginning of your comments. TSA encourages commenters to provide their names and addresses. The most helpful comments reference a specific portion of the document, explain the reason for any recommended change, and include supporting data. You may submit comments and material electronically, in person, by mail, or fax as provided under ADDRESSES, but please submit your comments and material by only one means. If you submit comments by mail or delivery, submit them in an unbound format, no larger than 8.5 by 11 inches, suitable for copying and electronic filing.

If you would like TSA to acknowledge receipt of comments submitted by mail, include with your comments a self-addressed, stamped postcard on which the docket number appears. We will stamp the date on the postcard and mail it to you.

TSA will file all comments to our docket address, as well as items sent to the address or email under FOR FURTHER INFORMATION CONTACT, in the public docket, except for comments containing confidential information and sensitive security information (SSI).¹ Should you wish your personally identifiable information redacted prior to filing in the docket, please so state. TSA will consider all comments that are in the docket on or before the closing date for comments and will consider comments filed late to the extent practicable. The docket is available for public inspection before and after the comment closing date.

¹ “Sensitive Security Information” or “SSI” is information obtained or developed in the conduct of security activities, the disclosure of which would constitute an unwarranted invasion of privacy, reveal trade secrets or privileged or confidential information, or be detrimental to the security of transportation. The protection of SSI is governed by 49 CFR part 1520.

Handling of Confidential or Proprietary Information and Sensitive Security Information (SSI) Submitted in Public Comments

Do not submit comments that include trade secrets, confidential commercial or financial information, or SSI to the public regulatory docket. Please submit such comments separately from other comments on the action. Comments containing this type of information should be appropriately marked as containing such information and submitted by mail to the address listed in FOR FURTHER INFORMATION CONTACT section.

TSA will not place comments containing SSI in the public docket and will handle them in accordance with applicable safeguards and restrictions on access. TSA will hold documents containing SSI, confidential business information, or trade secrets in a separate file to which the public does not have access, and place a note in the public docket explaining that commenters have submitted such documents. TSA may include a redacted version of the comment in the public docket. If an individual requests to examine or copy information that is not in the public docket, TSA will treat it as any other request under the Freedom of Information Act (FOIA) (5 U.S.C. 552) and the Department of Homeland Security's (DHS') FOIA regulation found in 6 CFR part 5.

Reviewing Comments in the Docket

Please be aware that anyone is able to search the electronic form of all comments in any of our dockets by the name of the individual who submitted the comment (or signed the comment, if an association, business, labor union, etc., submitted the comment). You may review the applicable Privacy Act Statement published in the Federal Register on April 11, 2000 (65 FR 19477), or you may visit http://DocketInfo.dot.gov.

You may review TSA's electronic public docket on the Internet at http://www.regulations.gov. In addition, DOT's Docket Management Facility provides a physical facility, staff, equipment, and assistance to the public. To obtain assistance or to review comments in TSA's public docket, you may visit this facility between 9:00 a.m. to 5:00 p.m., Monday through Friday, excluding legal holidays, or call (202) 366-9826. This docket operations facility is located in the West Building Ground Floor, Room W12-140 at 1200 New Jersey Avenue SE, Washington, DC 20590.

Availability of Committee Documents

You can get an electronic copy using the Internet by—

(1) Searching the electronic Federal Docket Management System (FDMS) web page at http://www.regulations.gov; or

(2) Accessing the Government Printing Office's web page at http://www.gpo.gov/fdsys/browse/collection.action?collectionCode=FR to view the daily published Federal Register edition; or accessing the “Search the Federal Register by Citation” in the “Related Resources” column on the left, if you need to do a Simple or Advanced search for information, such as a type of document that crosses multiple agencies or dates.

In addition, copies are available by writing or calling the individual in the FOR FURTHER INFORMATION CONTACT section. Make sure to identify the docket number of this action.

Meeting Summary

Notice of this meeting is given under section 10(a)(2) of the Federal Advisory Committee Act, 5 U.S.C. App. (Pub. L. 92-463). ASAC operates under the authority of 46 U.S.C. 70112 and provides advice, consults with, and makes recommendations to the Secretary of Homeland Security, via the Administrator of TSA on matters affecting civil aviation security.

This meeting is open to the public, but attendance is limited to 75 people. The meeting will be held at the TSA Systems Integration Facility, which is a secure facility, at 3701 West Post Office Road, DCA Airport, Arlington, VA 22202. Members of the public must register in advance with their full name and company/association to attend. In addition, members of the public must make advance arrangements to present oral statements at the meeting. The public comment period will be held during the meeting from approximately 3:30 p.m. to 4:00 p.m., depending on the meeting progress. Speakers are requested to limit their comments to three minutes. Written statements may also be presented to the Committee. Contact the person listed in the FOR FURTHER INFORMATION CONTACT section no later than September 11, 2012, to register to attend the meeting and/or to speak at the meeting. Written statements shall also be submitted no later than September 11, 2012. Anyone in need of assistance or a reasonable accommodation for the meeting should contact the person listed in the FOR FURTHER INFORMATION CONTACT section.

Meeting Agenda

The agenda for the meeting is as follows:

• Report on the actions of the Air Cargo Security Sub-committee.

• Report on the actions of the International Aviation Sub-committee.

• Status reports on the actions of the—

○ Risk-Based Security Sub-committee;

○ General Aviation Sub-committee; and

○ Passenger Advocacy Sub-committee.

• Other aviation security topics.

• Public question/comment period.

Issued in Arlington, Virginia, on August 27, 2012.
John P. Sammon,
Assistant Administrator, Security Policy and Industry Engagement.

[FR Doc. 2012-21631 Filed 8-31-12; 8:45 am]

BILLING CODE 9110-05-P